DEPARTMENT OF AGRICULTURE

Forest Service

Notice of New Fee Site; Federal Lands Recreation Enhancement Act (Title VIII, Pub. L. 108-447); Cancellation

AGENCY: Bighorn National Forest, USDA Forest Service.

ACTION: Cancellation of Notice [FR Doc. E9-26300 Filed 11-2-09: 8:45 am].

SUMMARY: The Bighorn National Forest, Powder River Ranger District, has cancelled notification of fee charge proposal for the West Tensleep Trailhead. This corrects FR Doc. E9-26300.

DATES: Cancellation effective immediately.

ADDRESSES: Forest Supervisor, Bighorn National Forest, 2013 Eastside 2nd Street, Sheridan, WY 82801.

FOR FURTHER INFORMATION CONTACT: Craig Cope, Powder River Ranger District Recreation Staff Office, 307-684-7806.

SUPPLEMENTARY INFORMATION: The Federal Recreation Lands Enhancement Act (Title VIII, Pub. L. 108-447) directed the Secretary of Agriculture to publish a six month advance notice in the Federal Register whenever new recreation fee areas are established.

The Bighorn National Forest will give further consideration to this proposal and issue a new notice at a later date.

Dated: November 17, 2009.
William T. Bass,
Forest Supervisor, Bighorn National Forest.

[FR Doc. E9-28087 Filed 11-23-09; 8:45 am]

BILLING CODE 3410-11-M